DEPARTMENT OF COMMERCE

National Oceanic and Atmospheric Administration

50 CFR Part 679

[Docket No. 250312-0036, RTID 0648-XF360]

Fisheries of the Exclusive Economic Zone Off Alaska; Reapportionment of Halibut Prohibited Species Catch Limits in the Bering Sea and Aleutian Islands Management Area

AGENCY: National Marine Fisheries Service (NMFS), National Oceanic and Atmospheric Administration (NOAA), Commerce.

ACTION: Temporary rule; reallocation.

SUMMARY: NMFS is reapportioning the unused amounts of Pacific cod Trawl Cooperative (PCTC) Program halibut prohibited species catch (PSC) limits to the Pacific cod limited access trawl catcher vessel sector C season in the Bering Sea and Aleutian Islands management area (BSAI).

DATES: Effective December 4, 2025, through 2400 hours, Alaska local time (A.l.t.), December 31, 2025.

FOR FURTHER INFORMATION CONTACT: Andrew Olson, 907-206-5813.

SUPPLEMENTARY INFORMATION: NMFS manages the groundfish fishery in the BSAI according to the Fishery Management Plan for Groundfish of the Bering Sea and Aleutian Islands Management Area (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 Pacific cod fishery halibut PSC limits specified for the PCTC Program A and B seasons (January 20-June 10) is 220 metric tons (mt) and for trawl catcher vessel C season (June 10-November 1) is 15 mt as established by the final 2025 and 2026 harvest specifications for groundfish in the BSAI (90 FR 12640, March 18, 2025). Halibut PSC limits for the Pacific cod fishery are apportioned between the PCTC Program, the trawl catcher vessel limited access C season, and American Fisheries Act catcher/processors as established under § 679.131(c). Any unused PCTC Program halibut PSC limits may be reapportioned to the trawl catcher vessel C season under § 679.131(c)(3).

The Administrator, Alaska Region, NMFS has determined that during the A and B seasons 137 mt of halibut PSC limit apportioned to the PCTC Program was not caught. The B season closed on June 10. Therefore, in accordance with § 679.131(c)(3), NMFS reapportions 137 mt of the halibut PSC limit for the PCTC Program to the limited access trawl catcher vessel sector C season, which increases this sector's halibut PSC limit apportionment to 152 mt. This action is authorized by § 679.131(c)(3), which allows for unused halibut PSC limits to be reapportioned to the C season, and is necessary to account for the trawl catcher vessel sector's C season halibut PSC.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest. This requirement is impracticable and contrary to the public interest as it would prevent NMFS from responding to the most recent fisheries data in a timely fashion and from providing an accounting of the reapportionment of unused halibut PSC limits to the trawl catcher vessel C season under § 679.131. Without this authorized reapportionment, this would result in exceeding halibut PSC limits for the limited access trawl catcher vessel sector. NMFS was unable to publish a notice providing time for public comment because the most recent relevant data for halibut PSC by those sectors harvesting Pacific cod only became available as of December 2, 2025.

There is good cause under 5 U.S.C. 553(d)(3) to waive the 30-day delay in the effective date of this action. This finding is based upon the reasons provided above for waiver of prior notice and opportunity for public comment.

Authority: 16 U.S.C. 1801 et seq.

Dated: December 3, 2025.
Kelly Denit,
Director, Office of Sustainable Fisheries, National Marine Fisheries Service.

[FR Doc. 2025-22083 Filed 12-4-25; 8:45 am]

BILLING CODE 3510-22-P